FEDERAL HOUSING FINANCE AGENCY

[No. 2022-N-4]

Privacy Act of 1974; System of Records

AGENCY: Federal Housing Finance Agency.

ACTION: Notice of a modified system of records.

SUMMARY: In accordance with the requirements of the Privacy Act of 1974, as amended, (Privacy Act), the Federal Housing Finance Agency (FHFA or Agency) is proposing to modify the current FHFA system of records titled, “FHFA-18, Reasonable Accommodation and Personal Assistance Services Information System” (System) in order to collect information related to sincerely held religious beliefs, practices, or observances when necessary to evaluate requests for religious accommodations. FHFA is also publishing this revised system of records to reflect updates to the authorities and to expand the system's purpose, scope of categories of individuals, categories of records, and record source categories. FHFA is also proposing to modify certain routine uses, and make general and administrative updates to the remaining sections in the System.

DATES: In accordance with 5 U.S.C. 552a(e)(4) and (11), the modified system of records will go into effect without further notice on March 25, 2022, unless otherwise revised pursuant to comments received. The modified routine uses will go into effect on April 25, 2022. Comments must be received on or before April 25, 2022. FHFA will publish a new notice if the effective date is delayed in order for the Agency to review the comments or if changes are made based on comments received.

ADDRESSES: Submit comments to FHFA, identified by “No. 2022-N-4,” using any one of the following methods:

• Agency Website: www.fhfa.gov/open-for-comment-or-input.

• Federal eRulemaking Portal: https://www.regulations.gov. Follow the instructions for submitting comments. If you submit your comments to the Federal eRulemaking Portal, please also send it by email to FHFA at RegComments@fhfa.gov to ensure timely receipt by FHFA. Please include “Comments/No. 2022-N-4,” in the subject line of the message.

• Hand Delivered/Courier: The hand delivery address is: Clinton Jones, General Counsel, Attention: Comments/No. 2022-N-4, Federal Housing Finance Agency, 400 Seventh Street SW, Washington, DC 20219. The package should be delivered to the Seventh Street entrance Guard Desk, First Floor, on business days between 9 a.m. and 5 p.m., EST. For U.S. Mail, United Parcel Service, Federal Express, or Other Mail Service: The mailing address for comments is: Clinton Jones, General Counsel, Attention: Comments/No. 2022-N-4, Federal Housing Finance Agency, 400 Seventh Street SW, Washington, DC 20219. Please note that all mail sent to FHFA via the U.S. Postal Service is routed through a national irradiation facility, a process that may delay delivery by approximately two weeks. For any time-sensitive correspondence, please plan accordingly.

See SUPPLEMENTARY INFORMATION for additional information on submission and posting of comments.

FOR FURTHER INFORMATION CONTACT: Stacy Easter, Privacy Act Officer, privacy@fhfa.gov or (202) 649-3803; or Tasha Cooper, Senior Agency Official for Privacy, privacy@fhfa.gov or (202) 649-3091 (not toll-free numbers), Federal Housing Finance Agency, 400 Seventh Street SW, Washington, DC 20219. For TTY/TRS users with hearing and speech disabilities, dial 711 and ask to be connected to any of the contact numbers above.

SUPPLEMENTARY INFORMATION:

I. Comments

FHFA seeks public comments on the revision(s) to the system of records and will take all comments into consideration. See 5 U.S.C. 552a(e)(4) and (11). In addition to referencing “Comments/No. 2022-N-4,” please reference “FHFA-18, Reasonable Accommodation and Personal Assistance Services Information System.”

FHFA will make all comments timely received available for examination by the public through the electronic comment docket for this notice, which is located on the FHFA website at http://www.fhfa.gov. All comments received will be posted without change and will include any personal information you provide, such as name, address (mailing and email), telephone numbers, and any other information you provide.

II. Introduction

This notice informs the public of FHFA's proposed revision(s) to an existing system of records. This notice satisfies the Privacy Act requirement that an agency publishes a system of records notice in the Federal Register when there is an addition or change to an agency's systems of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. Records and information in this system of records are not exempt from the requirements of the Privacy Act.

As required by the Privacy Act, 5 U.S.C. 552a(r), and pursuant to section 7 of Office of Management and Budget (OMB) Circular No. A-108, “Federal Agency Responsibilities for Review, Reporting, and Publication under the Privacy Act”, prior to publication of this notice, FHFA submitted a report describing the system of records covered by this notice to the OMB, the Committee on Oversight and Government Reform of the House of Representatives, and the Committee on Homeland Security and Governmental Affairs of the Senate.

III. Revised Systems of Records

The revised system of records notice is set out in its entirety and described in detail below. The proposed modification to the System makes the following substantive and nonsubstantive changes:

(1) Adds new authorities, revises the purpose, and expands the categories of individuals covered by the system, the categories of records in the system, and the records source categories, to allow FHFA to collect and maintain information required to process religious accommodation requests provided for under Title VII of the Civil Rights Act of 1964 (CRA), as amended.

(2) Revises existing routine uses language to be consistent with FHFA's standard routine uses, deletes routine use 7, and merges routine uses 13 and 14.

(3) Updates the Security Classification section as Controlled Unclassified due to FHFA's transition to a controlled unclassified information policy to align with the National Archives and Records Administration (NARA).

(4) Makes other general and administrative updates to the remaining sections of the notice in accordance with the OMB Circular A-108.

Information in this System is used to collect, maintain, evaluate, approve, deny, and/or implement requests for a reasonable accommodation or personal assistance services under sections 501, 504, and 701 of the Rehabilitation Act of 1973; 29 CFR part 1630; the Americans with Disabilities Act (ADA) Amendments of 2008; Title VII of the Civil Rights Act of 1964; and 29 CFR part 1605.

In addition, the System tracks and reports to appropriate entities the processing of requests for reasonable accommodation and personal assistance services to ensure compliance with applicable laws and regulations, and to preserve and maintain the confidentiality of medical and religious information.

SYSTEM NAME AND NUMBER:

Reasonable Accommodation and Personal Assistance Services Information System, FHFA-18.

SECURITY CLASSIFICATION:

Controlled Unclassified Information.

SYSTEM LOCATION:

Federal Housing Finance Agency, 400 Seventh Street SW, Washington, DC 20219, and any alternate work site used by employees of FHFA, including contractors assisting agency employees, FHFA-authorized cloud service providers, and FHFA-authorized contractor networks located within the Continental United States.

SYSTEM MANAGER(S):

Office of Human Resources Management, Employee Relations and Benefits, Senior Human Resources Specialist, (202) 649-3807, Federal Housing Finance Agency, 400 7th Street SW, Washington, DC 20219, and any alternate work site utilized by employees of the Federal Housing Finance Agency or by individuals assisting such employees.

AUTHORITY FOR MAINTENANCE OF THE SYSTEM:

The Rehabilitation Act of 1973 (29 U.S.C. 791); 29 CFR part 1630; Executive Orders 13163, 13164 and 13548; Equal Employment Opportunity Commission (EEOC) Policy Guidance on Executive Order 13164; EEOC Enforcement Guidance: Application of the Americans with Disabilities Act (ADA) to Contingent Workers Placed by Temporary Agencies and Other Staffing Firms; Title VII of the Civil Rights Act of 1964 (42 U.S.C. 2000e); and 29 CFR part 1605.

PURPOSE(S) OF THE SYSTEM:

The purpose(s) of the System is to:

(1) Allow FHFA to collect and maintain records on applicants for employment, employees (including former employees), and others who request or receive a reasonable accommodation under sections 501, 504, and 701 of the Rehabilitation Act of 1973, as amended, and under the ADA Amendments of 2008, and on employees and others who request or receive personal assistance services under section 501, as amended, of the Rehabilitation Act of 1973;

(2) Allow FHFA to collect and maintain records on applicants for employment, employees (including former employees), and others with sincerely held religious beliefs, practices, or observances who request or receive an accommodation pursuant to Title VII of the Civil Rights Act of 1964 (42 U.S.C. 2000e) and 29 CFR part 1605;

(3) Track and report to appropriate entities the processing of requests for reasonable and religious accommodations and personal assistance services to ensure compliance with applicable laws and regulations;

(4) Preserve and maintain the confidentiality of medical and religious information.; and

(5) Evaluate, approve, deny, and/or implement a request for religious and reasonable accommodation or personal assistance service.

CATEGORIES OF INDIVIDUALS COVERED BY THE SYSTEM:

Applicants for employment, employees (current and former), and any other individuals who request and/or receive a reasonable accommodation under sections 501, 504, and 701 of the Rehabilitation Act of 1973 and under the ADA Amendments of 2008; employees who request or receive personal assistance services under section 501, as amended, of the Rehabilitation Act; and employees who request and/or receive a reasonable accommodation for a sincerely held religious belief, practice, or observance under Title VII of the Civil Rights Act of 1964 and 29 CFR part 1605, respectively. This also includes authorized individuals or representatives (e.g., family member or attorney) who file requests for a reasonable accommodation on behalf of an applicant for employment, or who file requests for reasonable accommodations or personal assistance services on behalf of an employee, or other individual, as well as former employees who requested or received reasonable accommodations or personal assistance services during their employment with FHFA.

CATEGORIES OF RECORDS IN THE SYSTEM:

Records may include requester's name, contact information (i.e., address, telephone number, email address and any other information provided), or other unique identifier; requester's authorized representative's name and contact information (i.e., address, telephone number, email address and any other information provided); requester's status (i.e., applicant, employee, or other); request date; job(s) (occupational series, grade level, and agency component) for which a reasonable accommodation or personal assistance service had been requested; other reasons for requesting a reasonable accommodation or personal assistance service; information concerning a sincerely held religious belief, practice, or observance and/or the nature of any religious accommodation request; information concerning the nature of any disability and the need for accommodation or assistance; appropriate medical or other documentation provided in support of the request; details of a reasonable accommodation or personal assistance service request to include: Type(s) of accommodation or assistance requested; whether the accommodation requested was pre-employment or during employment, or for some other reason; whether the assistance requested was during employment; how the requested accommodation would assist the individual in applying for a job, how the requested accommodation or assistance would assist the individual in performing current job functions, or meeting some other need/requirement; the amount of time taken to process the request; whether the request was granted or denied and, if denied, the reason for the denial; and the sources of any assistance consulted in trying to identify possible reasonable accommodations or providing personal assistance services.

RECORD SOURCE CATEGORIES:

Information is provided by applicants for employment, employees, other individuals requesting a religious accommodation, reasonable accommodation, personal assistance service, or and/or their authorized representatives, as well as individuals who are responsible for processing such requests. For any of the individuals above who are minors, the information may be provided by the individual's parent or legal custodian.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside of FHFA as a routine use pursuant to 5 U.S.C. 552a(b)(3) as follows, to the extent such disclosures are compatible with the purposes for which the information was collected:

(1) To appropriate agencies, entities, and persons when—(a) FHFA suspects or has confirmed that there has been a breach of the system of records; (b) FHFA has determined that as a result of a suspected or confirmed breach there is a risk of harm to individuals, FHFA (including its information systems, programs, and operations), the Federal Government, or national security; and (c) the disclosure made to such agencies, entities, and persons as are reasonably necessary to assist with FHFA's efforts to respond to a suspected or confirmed breach or to prevent, minimize, or remedy harm.

(2) To another federal agency or federal entity, when FHFA determines that information from this system of records is reasonably necessary to assist the recipient agency or entity in: (a) Responding to a suspected or confirmed breach or; (b) preventing, minimizing, or remedying the risk of harm to individuals, the recipient agency or entity (including its information systems, programs, and operations), the Federal Government, or national security, resulting from a suspected or confirmed breach.

(3) When there is an indication of a violation or potential violation of law, whether civil, criminal, or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(4) To any individual during the course of any inquiry or investigation conducted by FHFA, or in connection with civil litigation, if FHFA has reason to believe that the individual to whom the record is disclosed may have further information about the matters related thereto, and those matters appeared to be relevant at the time to the subject matter of the inquiry.

(5) To any individual with whom FHFA contracts to collect, store, or maintain, or reproduce, by typing, photocopy or other means, any record within this system for use by FHFA and its employees in connection with their official duties, or to any individual who is engaged by FHFA to perform clerical or stenographic functions relating to the official business of FHFA.

(6) To members of advisory committees that are created by FHFA or by Congress to render advice and recommendations to FHFA or to Congress, to be used solely in connection with their official, designated functions.

(7) To a Congressional office from the record of an individual in response to an inquiry from the Congressional office made at the request of that individual.

(8) To consultants, contractor personnel, entities, vendors or suppliers, employees of other government agencies, whether federal, state or local, as necessary to make a decision on a request for accommodation or to implement the decision.

(9) To a court, magistrate, or administrative tribunal in the course of presenting evidence, including disclosures to opposing counsel or witnesses in the course of civil discovery, litigation, or settlement negotiations or in connection with criminal law proceedings or in response to a subpoena from a court of competent jurisdiction, and when FHFA determines that the records are both relevant and necessary to the litigation.

(10) To another federal agency or commission with responsibility for labor or employment relations or other issues, including equal employment opportunity and reasonable accommodation or personal assistance service issues, when that agency or commission has jurisdiction over reasonable accommodation or personal assistance service.

(11) To the Office of Management and Budget, Department of Justice (DOJ), Department of Labor, Office of Personnel Management, Equal Employment Opportunity Commission, Office of Special Counsel, Merit Systems Protection Board or other federal agencies to obtain advice regarding statutory, regulatory, policy, and other requirements related to reasonable accommodation or personal assistance service.

(12) To appropriate third parties contracted by FHFA to facilitate mediation or other dispute resolution procedures or programs.

(13) To another federal agency or entity authorized to procure assistive technologies and services in response to a request for reasonable accommodation.

(14) To outside counsel contracted by FHFA, DOJ, (including United States Attorney Offices), or other federal agencies conducting litigation or in proceedings before any court, adjudicative or administrative body, when it is necessary to the litigation and one of the following is a party to the litigation or has an interest in such litigation:

a. FHFA;

b. Any employee of FHFA in his/her official capacity;

c. Any employee of FHFA in his/her individual capacity when DOJ or FHFA has agreed to represent the employee; or

d. The United States or any agency thereof, is a party to the litigation or has an interest in such litigation, and FHFA determines that the records are both relevant and necessary to the litigation.

(15) To the National Archives and Records Administration or other federal agencies pursuant to records management inspections being conducted under the authority of 44 U.S.C. 2904 and 2906.

(16) To an agency, organization, or individual for the purpose of performing audit or oversight operations as authorized by law, but only such information as is necessary and relevant to such audit or oversight function.

POLICIES AND PRACTICES FOR STORAGE OF RECORDS:

Records are maintained in electronic or paper format. Electronic records are stored on FHFA's secured network, FHFA-authorized cloud service providers and FHFA-authorized contractor networks located within the Continental United States. Paper records are stored in locked offices, locked file rooms, and locked file cabinets or safes.

POLICIES AND PRACTICES FOR RETRIEVAL OF RECORDS:

Records may be retrieved by an individual's name or some other unique identifier.

POLICIES AND PRACTICES FOR RETENTION AND DISPOSAL OF RECORDS:

Records are retained and disposed of in accordance with National Archives and Records Administration (NARA's) General Records Schedule 2.3, Item 020 and FHFA's Comprehensive Records Schedule, Item 5.3 Human Resources Records.

ADMINISTRATIVE, TECHNICAL, AND PHYSICAL SAFEGUARDS:

Records are maintained in controlled access areas. Electronic records are protected by restricted access procedures, including user identifications and passwords. Only FHFA staff (and FHFA contractors assisting such staff) whose official duties require access are allowed to view, administer, and control these records.

RECORD ACCESS PROCEDURES:

See “Notification Procedures” below.

CONTESTING RECORD PROCEDURES:

See “Notification Procedures” below.

NOTIFICATION PROCEDURES:

Individuals seeking notification of any records about themselves contained in this system should address their inquiry to the Privacy Act Officer, via email to privacy@fhfa.gov or by mail to the Federal Housing Finance Agency, 400 Seventh Street SW, Washington, DC 20219, or in accordance with the procedures set forth in 12 CFR part 1204. Please note that all mail sent to FHFA via the U.S. Postal Service is routed through a national irradiation facility, a process that may delay delivery by approximately two weeks. For any time-sensitive correspondence, please plan accordingly.

EXEMPTIONS PROMULGATED FOR THE SYSTEM:

None.

HISTORY:

The system of records was last published in full in the Federal Register at 83 FR 43677 (August 27, 2018).

Clinton Jones,
General Counsel, Federal Housing Finance Agency.

[FR Doc. 2022-06310 Filed 3-24-22; 8:45 am]

BILLING CODE 8070-01-P